DEPARTMENT OF ENERGY

Federal Energy Regulatory Commission

[Project No. 7856-027]

Willow Creek Hydro, LLC; Notice of Termination Of License (Minor Project) by Implied Surrender and Soliciting Comments and Protests

Take notice that the following hydroelectric proceeding has been initiated by the Commission:

a. Type of Proceeding: Termination of license by implied surrender.

b. Project No.: 7856-027.

c. Date Initiated: April 29, 2015.

d. Licensee: Willow Creek Hydro, LLC.

e. Name and Location of Project: The Potosi Power Company Water Power Project, is located on the South Willow and Potosi Creeks, in Madison County, Montana and occupies 0.3 acres of federal lands within the Beaverhead National Forest.

f. Filed Pursuant to: Standard Article 24.

g. Licensee Contact Information: Ms. Jane Joslin, Willow Creek Hydro, LLC., 1 South Willow Creek, Pony, Montana 59747 and Mr. Darrin Brooks, Willow Creek Hydro, LLC., P.O. Box 267, Pony, Montana 59747, (406) 685-3330.

h. FERC Contact: Ashish Desai, (202) 502-8370, Ashish.Desai@ferc.gov.

i. Deadline for filing comments and protests is 30 days from the issuance date of this notice by the Commission. Please file your submittal electronically via the Internet (eFiling) in lieu of paper. Please refer to the instructions on the Commission's Web site under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-7856-027) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: (1) A 6-foot-high diversion structure; (2) a 2,300-foot-long penstock; (3) a powerhouse containing two generating units with a combined installed capacity of 300 kW; (4) a 10,000-foot-long underground transmission line; (5) a 2.5-mile-long, 12.5-kV overhead transmission line; and (6) appurtenant facilities.

k. Description of Proceeding: The licensee is in violation of Article 24 of its license, which was issued October 7, 1985 (33 FERC ¶ 62,017). Article 24 states in part: If the Licensee shall abandon or discontinue good faith operation of the project or refuse or neglect to comply with the terms of the license and the lawful orders of the Commission, the Commission will deem it to be the intent of the Licensee to surrender the license.

Commission records indicate that the project has not operated since the project penstock ruptured in 1994. After several years of correspondence regarding restoring project operation, the licensee has become non-responsive. The licensee most recently filed a plan and schedule to restore project operation with the Commission on February 6, 2014. By letter dated March 6, 2014, the Commission acknowledged the filing and required the licensee to file progress reports January 1 and June 1 of each year to ensure the licensee's continued progress towards restoring project operation. The licensee did not file the first progress report due on June 1, 2014. By letter dated November 12, 2014, the Commission indicated the licensee must file the overdue progress report, failure to do so would result in an implied surrender of the project license. To date, the licensee has not filed a response and the project remains inoperable.

l. This notice is available for review and reproduction at the Commission in the Public Reference Room, Room 2A, 888 First Street NE., Washington, DC 20426. The filing may also be viewed on the Commission's Web site at http://www.ferc.gov/docs-filing/elibrary.asp. Enter the Docket number (P-7856-027) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments or protests in accordance with the requirements of Rules of Practice and Procedure, 18 CFR 385.210 and 385.211. In determining the appropriate action to take, the Commission will consider all protests filed. Any protests must be received on or before the specified deadline date for the particular proceeding.

o. Filing and Service of Responsive Documents—Any filing must (1) bear in all capital letters the title “COMMENTS or “PROTEST,” as applicable; (2) set forth in the heading the project number of the proceeding to which the filing responds; (3) furnish the name, address, and telephone number of the person commenting or protesting; and (4) otherwise comply with the requirements of 18 CFR 385.2001 through 385.2005. All comments or protests must set forth their evidentiary basis and otherwise comply with the requirements of 18 CFR 4.34(b). All comments or protests should relate to project works which are the subject of the termination of license. A copy of any protest must be served upon each representative of the licensee specified in item g above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: April 29, 2015.
Kimberly D. Bose,
Secretary.

[FR Doc. 2015-10566 Filed 5-5-15; 8:45 am]

BILLING CODE 6717-01-P